DEPARTMENT OF COMMERCE

International Trade Administration

[A-570-983]

Drawn Stainless Steel Sinks from the People's Republic of China: Amended Final Determination of Sales at Less Than Fair Value and Antidumping Duty Order

AGENCY: Import Administration, International Trade Administration, Department of Commerce.

SUMMARY: Based on affirmative final determinations by the Department of Commerce (the “Department”) and the International Trade Commission (“ITC”), the Department is issuing an antidumping duty order on drawn stainless steel sinks (“drawn sinks”) from the People's Republic of China (“PRC”). In addition, the Department is amending its final determination to correct a ministerial error.

DATES: Effective Date: April 11, 2013.

FOR FURTHER INFORMATION CONTACT: Brooke Kennedy or Eve Wang, AD/CVD Operations, Office 8, Import Administration, International Trade Administration, U.S. Department of Commerce, 14th Street and Constitution Avenue NW., Washington, DC 20230; telephone: (202) 482-3818 or (202) 482-6231, respectively.

SUPPLEMENTARY INFORMATION:

Background

On February 26, 2013, the Department published the final determination of sales at less than fair value in the antidumping duty investigation of drawn sinks from the PRC.¹ On April 4, 2013, the ITC notified the Department of its final determination pursuant to section 735(b)(1)(A)(i) of the Tariff Act of 1930, as amended (“the Act”), that an industry in the United States is materially injured by reason of imports of drawn sinks from the PRC.²

¹ See Drawn Stainless Steel Sinks From the People's Republic of China: Investigation, Final Determination, 78 FR 13019 (February 26, 2013) (“Final Determination”).

² See Drawn Stainless Steel Sinks from China, USITC Pub. 4390, Investigation Nos. 701-TA-489 and 731-TA-1201 (Final) (April 2013).

Scope of the Order

The products covered by the scope of this order are drawn stainless steel sinks with single or multiple drawn bowls, with or without drain boards, whether finished or unfinished, regardless of type of finish, gauge, or grade of stainless steel. Mounting clips, fasteners, seals, and sound-deadening pads are also covered by the scope of this order if they are included within the sales price of the drawn stainless steel sinks.³ For purposes of this scope definition, the term “drawn” refers to a manufacturing process using metal forming technology to produce a smooth basin with seamless, smooth, and rounded corners. Drawn stainless steel sinks are available in various shapes and configurations and may be described in a number of ways including flush mount, top mount, or undermount (to indicate the attachment relative to the countertop). Stainless steel sinks with multiple drawn bowls that are joined through a welding operation to form one unit are covered by the scope of the order. Drawn stainless steel sinks are covered by the scope of the order whether or not they are sold in conjunction with non-subject accessories such as faucets (whether attached or unattached), strainers, strainer sets, rinsing baskets, bottom grids, or other accessories.

³ Mounting clips, fasteners, seals, and sound-deadening pads are not covered by the scope of the order if they are not included within the sales price of the drawn stainless steel sinks, regardless of whether they are shipped with or entered with drawn stainless steel sinks.

Excluded from the scope of the order are stainless steel sinks with fabricated bowls. Fabricated bowls do not have seamless corners, but rather are made by notching and bending the stainless steel, and then welding and finishing the vertical corners to form the bowls. Stainless steel sinks with fabricated bowls may sometimes be referred to as “zero radius” or “near zero radius” sinks.

The products covered by this order are currently classified in the Harmonized Tariff Schedule of the United States (“HTSUS”) under statistical reporting number 7324.10.0000 and 7324.10.00.10. Although the HTSUS subheadings are provided for convenience and customs purposes, the written description of the scope is dispositive.

Amendment to the Final Determination

On February 26, 2013, the Department published its affirmative final determination in this proceeding.⁴ On March 5, 2013, Jiangxi Zoje Kitchen & Bath Industry Co., Ltd. (“Zoje”), a separate rate applicant in this investigation submitted a timely ministerial error allegation and requested, pursuant to 19 CFR 351.224, that the Department correct the alleged ministerial error by revising Zoje's combination rates.

⁴ See Final Determination.

After analyzing all interested party comments, we have determined, in accordance with section 735(e) of the Act and 19 CFR 351.224(e), that we made the following ministerial error in the Final Determination with respect to Zoje:

• We inadvertently assigned a separate rate to the exporter Zoje in combination with Jiangxi Offidun Industry Co., Ltd. as the only producer of the subject merchandise. Information provided in Zoje's separate rate application indicated that Zoje qualified for two producer-exporter combinations.

For a detailed discussion of the alleged ministerial error, as well as the Department's analysis, see Memorandum to Paul Piquado, Assistant Secretary for Import Administration, from Christian Marsh, Deputy Assistant Secretary for Antidumping and Countervailing Duty Operations, regarding, “Final Determination of Antidumping Duty Investigation on Drawn Stainless Steel Sinks from the People's Republic of China: Allegation of Ministerial Error,” dated March 22, 2013.

Antidumping Duty Order

In accordance with sections 735(b)(1)(A)(i) and 735(d) of the Act, the ITC has notified the Department of its final determination in this investigation, in which it found that imports of drawn sinks from the PRC are materially injuring a U.S. industry. Therefore, in accordance with section 735(c)(2) of the Act, we are publishing this antidumping duty order.

As a result of the ITC's final determination, in accordance with section 736(a)(1) of the Act, the Department will direct U.S. Customs and Border Protection (“CBP”) to assess, upon further instruction by the Department, antidumping duties equal to the amount by which the normal value of the merchandise exceeds the export price (or constructed export price) of the merchandise, for all relevant entries of drawn sinks from the PRC. These antidumping duties will be assessed on unliquidated entries from the PRC entered, or withdrawn from warehouse, for consumption on or after October 4, 2012, the date on which the Department published the Preliminary Determination, ⁵ but will not include entries occurring after the expiration of the provisional measures period and before publication of the ITC's final injury determination, as further described below.

⁵ See Drawn Stainless Steel Sinks From the People's Republic of China: Antidumping Duty Investigation, 77 FR 60673 (October 4, 2012) (“Preliminary Determination”).

Continuation of Suspension of Liquidation

In accordance with section 735(c)(1)(B) of the Act, we will instruct CBP to continue to suspend liquidation on entries of subject merchandise from the PRC. We will also instruct CBP to require cash deposits equal to the estimated amount by which the normal value exceeds the U.S. price as indicated in the chart below. These cash deposit rates will be adjusted, where appropriate, for export subsidies and estimated domestic subsidy pass-through. These instructions suspending liquidation will remain in effect until further notice.

Accordingly, effective on the date of publication of the ITC's final affirmative injury determination, CBP will require, at the same time as importers would normally deposit estimated duties on this subject merchandise, a cash deposit equal to the estimated weighted-average antidumping duty margins as discussed above, adjusted, where appropriate, for export subsidies and estimated domestic subsidy pass-through.⁶ The “PRC-wide” rate applies to all exporters of subject merchandise not specifically listed.

⁶ See sections 736(a)(3), 772(c)(1)(C) and 777A(f) of the Act.

Provisional Measures

Section 733(d) of the Act states that instructions issued pursuant to an affirmative preliminary determination may not remain in effect for more than four months except where exporters representing a significant proportion of exports of the subject merchandise request the Department to extend that four-month period to no more than six months. At the request of the exporters that account for a significant proportion of exports of drawn stainless steel sinks from the PRC, we extended the four-month period to no more than six months.⁷ In the underlying investigation, the Department published the Preliminary Determination on October 4, 2012. Therefore, the six-month period beginning on the date of the publication of the Preliminary Determination ended on April 2, 2013. Furthermore, section 737(b) of the Act states that definitive duties are to begin on the date of publication of the ITC's final injury determination.

⁷ See Letter from Guangdong Dongyuan Kitchenware Industrial Co., Ltd., “Drawn Stainless Steel Sinks from the People's Republic of China: Request for Extension of Final Determination,” dated September 21, 2012.

Therefore, in accordance with section 733(d) of the Act and our practice, we will instruct CBP to terminate the suspension of liquidation and to liquidate, without regard to antidumping duties, unliquidated entries of drawn sinks from the PRC entered, or withdrawn from warehouse, for consumption after April 2, 2013, the date the provisional measures expired, and through the day preceding the date of publication of the ITC's final injury determination in the Federal Register.

Amended Final Determination of Antidumping Investigation

The weighted-average dumping margins are as follows:

Exporter | Producer | Percent margin
Zhongshan Superte Kitchenware Co., Ltd/Zhongshan Superte Kitchenware Co., Ltd invoiced as Foshan Zhaoshun Trade Co., Ltd | Zhongshan Superte Kitchenware Co., Ltd | 39.87
Guangdong Dongyuan Kitchenware Industrial Co., Ltd | Guangdong Dongyuan Kitchenware Industrial Co., Ltd | 27.14
B&R Industries Limited | Xinhe Stainless Steel Products Co., Ltd and Jiamen XHHL Stainless Steel Manufacturing Co., Ltd | 33.51
Elkay (China) Kitchen Solutions, Co., Ltd | Elkay (China) Kitchen Solutions, Co., Ltd | 33.51
Feidong Import and Export Co., Ltd | Jiangmen Liantai Kitchen Equipment Co.; Jiangmen Xinhe Stainless Steel Product Co., Ltd | 33.51
Foshan Shunde MingHao Kitchen Utensils Co., Ltd | Foshan Shunde MingHao Kitchen Utensils Co., Ltd | 33.51
Franke Asia Sourcing Ltd | Guangdong YingAo Kitchen Utensils Co., Ltd; Franke (China) Kitchen System Co., Ltd | 33.51
Grand Hill Work Company | Zhongshan Xintian Hardware Co., Ltd | 33.51
Guangdong G-Top Import and Export Co., Ltd | Jiangmen Jin Ke Ying Stainless Steel Wares Co., Ltd | 33.51
Guangdong Yingao Kitchen Utensils Co., Ltd | Guangdong Yingao Kitchen Utensils Co., Ltd | 33.51
Hangzhou Heng's Industries Co., Ltd | Hangzhou Heng's Industries Co., Ltd | 33.51
J&C Industries Enterprise Limited | Zhongshan Superte Kitchenware Co., Ltd | 33.51
Jiangmen Hongmao Trading Co., Ltd | Xinhe Stainless Steel Products Co., Ltd | 33.51
Jiangmen New Star Hi-Tech Enterprise Ltd | Jiangmen New Star Hi-Tech Enterprise Ltd | 33.51
Jiangmen Pioneer Import & Export Co., Ltd | Jiangmen Ouert Kitchen Appliance Manufacturing Co., Ltd; Jiangmen XHHL Stainless Steel Manufacturing Co., Ltd | 33.51
Jiangxi Zoje Kitchen & Bath Industry Co., Ltd | Jiangxi Offidun Industry Co. Ltd; Jiangxi Zoje Kitchen & Bath Industry Co., Ltd | 33.51
Ningbo Oulin Kitchen Utensils Co., Ltd | Ningbo Oulin Kitchen Utensils Co., Ltd | 33.51
Primy Cooperation Limited | Primy Cooperation Limited | 33.51
Shunde Foodstuffs Import & Export Company Limited of Guangdong | Bonke Kitchen & Sanitary Industrial Co., Ltd | 33.51
Zhongshan Newecan Enterprise Development Corporation | Zhongshan Xintian Hardware Co., Ltd | 33.51
Zhuhai Kohler Kitchen & Bathroom Products Co., Ltd | Zhuhai Kohler Kitchen & Bathroom Products Co., Ltd | 33.51
PRC-Wide Rate * |  | 76.53
* This rate also applies to Jiangmen Liantai Kitchen Equipment Co., Jiangmen Xinhe Stainless Steel Product Co., Ltd, Kele Kitchenware Co., Ltd, Capstone International Development Corporation, FoShan Fancome Trading Co., Ltd, and Shenzen Kehuaxing Industrial Ltd.

This notice constitutes the antidumping duty order with respect to drawn sinks from the PRC pursuant to section 736(a) of the Act. Interested parties may contact the Department's Central Records Unit, Room 7043 of the main Commerce building, for copies of an updated list of antidumping duty orders currently in effect.

This order and amended final determination are published in accordance with sections 736(a) and 735(e) of the Act and 19 CFR 351.211 and 351.224(e).

Dated: April 8, 2013.
Paul Piquado,
Assistant Secretary for Import Administration.

[FR Doc. 2013-08649 Filed 4-10-13; 8:45 am]

BILLING CODE 3510-DS-P